DEPARTMENT OF ENERGY

Federal Energy Regulatory Commission

Combined Notice of Filings #1

Take notice that the Commission received the following electric rate filings:

Docket Numbers: ER20-442-001.

Applicants: Wildcat I Energy Storage, LLC.

Description: Notice of Non-Material Change in Status of Wildcat I Energy Storage, LLC.

Filed Date: 12/10/21.

Accession Number: 20211210-5238.

Comment Date: 5 p.m. ET 1/3/22.

Docket Numbers: ER21-1325-001.

Applicants: ISO New England Inc., New Hampshire Transmission, LLC.

Description: Compliance filing: ISO New England Inc. submits tariff filing per 35: New Hampshire Transmission; ER21-1325—Supplemental Order 864 Compliance Filing to be effective 1/1/2020.

Filed Date: 12/14/21.

Accession Number: 20211214-5184.

Comment Date:5 p.m. ET 12/27/21.

Docket Numbers: ER21-2924-001.

Applicants: Southwest Power Pool, Inc.

Description: Tariff Amendment: Deficiency Response—Compensation for Rescheduled Maintenance Costs to be effective 11/22/2021.

Filed Date: 12/14/21.

Accession Number: 20211214-5073.

Comment Date: 5 p.m. ET 1/4/22.

Docket Numbers: ER22-628-000.

Applicants: PJM Interconnection, L.L.C.

Description: § 205(d) Rate Filing: Original ISA, Service Agreement No. 6245; Queue No. AE2-221 to be effective 11/15/2021.

Filed Date: 12/14/21.

Accession Number: 20211214-5026.

Comment Date:5 p.m. ET 1/4/22.

Docket Numbers: ER22-629-000.

Applicants: PJM Interconnection, L.L.C.

Description: § 205(d) Rate Filing: Original WMPA, SA No. 6253; Queue No. AG2-050 to be effective 11/23/2021.

Filed Date: 12/14/21.

Accession Number: 20211214-5054.

Comment Date: 5 p.m. ET 1/4/22.

Docket Numbers: ER22-630-000.

Applicants: Southwest Power Pool, Inc.

Description: § 205(d) Rate Filing: Revisions to Attachment AE to Clarify the Electric Storage Resource Loss Factor to be effective 2/14/2022.

Filed Date: 12/14/21.

Accession Number: 20211214-5086.

Comment Date: 5 p.m. ET 1/4/22.

Docket Numbers: ER22-631-000.

Applicants: PJM Interconnection, L.L.C.

Description: § 205(d) Rate Filing: Original ISA, Service Agreement No. 6232; Queue No. AE1-071 to be effective 11/15/2021.

Filed Date: 12/14/21.

Accession Number: 20211214-5114.

Comment Date:5 p.m. ET 1/4/22.

Docket Numbers: ER22-632-000.

Applicants: PacifiCorp.

Description: § 205(d) Rate Filing: BPA Amend Restated Midpoint-Meridian Agmt RS 369 Rev 1 to be effective 2/12/2022.

Filed Date: 12/14/21.

Accession Number: 20211214-5158.

Comment Date: 5 p.m. ET 1/4/22.

Docket Numbers: ER22-633-000.

Applicants: AEP Energy Partners, Inc.

Description: Request for Limited Waiver of AEP Energy Partners, Inc.

Filed Date: 12/13/21.

Accession Number: 20211213-5256.

Comment Date: 5 p.m. ET 1/3/22.

Docket Numbers: ER22-634-000.

Applicants: PJM Interconnection, L.L.C.

Description: Tariff Amendment: Notice of Cancellation of ISA, SA No. 5493; Queue No. AC1-107 re: breach to be effective 12/14/2021.

Filed Date: 12/14/21.

Accession Number: 20211214-5174.

Comment Date: 5 p.m. ET 1/4/22.

Docket Numbers: R22-635-000.

Applicants: Liberty Utilities (Granite State Electric) Corp.

Description: § 205(d) Rate Filing: Borderline Sales Rate Sheet Update December 2021 to be effective 11/1/2021.

Filed Date: 12/14/21.

Accession Number: 20211214-5187.

Comment Date: 5 p.m. ET 1/4/22.

Docket Numbers: ER22-636-000.

Applicants: ITC Midwest LLC.

Description: § 205(d) Rate Filing: Filing of a Fiber Agreement to be effective 2/14/2022.

Filed Date: 12/14/21.

Accession Number: 20211214-5192.

Comment Date:5 p.m. ET 1/4/22.

Docket Numbers: ER22-637-000.

Applicants: PJM Interconnection, L.L.C.

Description: § 205(d) Rate Filing: Original ISA, Service Agreement No. 6247; Queue No. AE2-218 to be effective 11/15/2021.

Filed Date: 12/14/21.

Accession Number: 20211214-5194.

Comment Date:5 p.m. ET 1/4/22.

Docket Numbers: ER22-638-000.

Applicants: American Electric Power Service Corporation, Ohio Power Company, PJM Interconnection, L.L.C.

Description: § 205(d) Rate Filing: American Electric Power Service Corporation submits tariff filing per 35.13(a)(2)(iii: AEP submits one Facilities Agreement re: ILDSA, SA No. 1336 to be effective 2/13/2022.

Filed Date: 12/14/21.

Accession Number: 20211214-5197.

Comment Date:5 p.m. ET 1/4/22.

Docket Numbers: ER22-639-000.

Applicants: PacifiCorp.

Description: Notice of Cancellation of Rate Schedule No. 384 with Bonneville Power Administration of PacifiCorp.

Filed Date: 12/10/21.

Accession Number: 20211210-5239.

Comment Date:5 p.m. ET 1/3/22.

Docket Numbers: ER22-640-000.

Applicants: PacifiCorp.

Description: Notice of Cancellation of Rate Schedule No. 371 with Bonneville Power Administration of PacifiCorp.

Filed Date: 12/10/21.

Accession Number: 20211210-5240.

Comment Date:5 p.m. ET 1/3/22.

Docket Numbers: ER22-641-000.

Applicants: PJM Interconnection, L.L.C.

Description: § 205(d) Rate Filing: Interim ISA, SA No. 6234; Queue No. AF1-164 to be effective 11/15/2021.

Filed Date: 12/14/21

Accession Number: 20211214-5208.

Comment Date: 5 p.m. ET 1/4/22.

Docket Numbers: ER22-642-000.

Applicants: PJM Interconnection, L.L.C.

Description: § 205(d) Rate Filing: Original ISA, SA No. 6250; Queue No. AE2-278 to be effective 11/15/2021.

Filed Date: 12/14/21.

Accession Number: 20211214-5210.

Comment Date: 5 p.m. ET 1/4/22.

Docket Numbers: ER22-643-000.

Applicants: Southwest Power Pool, Inc.

Description: § 205(d) Rate Filing: 3881 Southwestern Power Admin & AEP OK Trans Co Inter Agr to be effective 12/1/2021.

Filed Date: 12/14/21.

Accession Number: 20211214-5217.

Comment Date:5 p.m. ET 1/4/22.

Docket Numbers: ER22-644-000.

Applicants: Southwest Power Pool, Inc.

Description: § 205(d) Rate Filing: 3882 Southwestern Power Admin & Public Service Co OK Inter Agr to be effective 12/1/2021.

Filed Date: 12/14/21.

Accession Number: 20211214-5222.

Comment Date:5 p.m. ET 1/4/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

https://www.ferc.gov/docs-filing/efiling/filing-req.pdf. For other information, call (866) 208-3676 (toll free). For TTY, call (202) 502-8659.

Dated: December 14, 2021.
Debbie-Anne A. Reese,
Deputy Secretary.

[FR Doc. 2021-27454 Filed 12-17-21; 8:45 am]

BILLING CODE 6717-01-P